DEPARTMENT OF ENERGY

Federal Energy Regulatory Commission

Combined Notice of Filings #2

Take notice that the Commission received the following exempt wholesale generator filings:

Docket Numbers: EG17-89-000.

Applicants: Red Pine Wind Project, LLC.

Description: Notice of Self-Certification of Exempt Wholesale Generator Status of Red Pine Wind Project, LLC.

Filed Date: 3/31/17.

Accession Number: 20170331-5349.

Comments Due: 5 p.m. ET 4/21/17.

Take notice that the Commission received the following electric rate filings:

Docket Numbers: ER16-938-006.

Applicants: Arizona Public Service Company.

Description: Compliance filing: EIM OATT Modifications to be effective 6/1/2017.

Filed Date: 3/31/17.

Accession Number: 20170331-5376.

Comments Due: 5 p.m. ET 4/21/17.

Docket Numbers: ER17-1362-000.

Applicants: Duke Energy Progress, LLC, Duke Energy Carolinas, LLC.

Description: § 205(d) Rate Filing: DEC-DEP GSU losses Revised PPA Filing to be effective 6/1/2017.

Filed Date: 3/31/17.

Accession Number: 20170331-5285.

Comments Due: 5 p.m. ET 4/21/17.

Docket Numbers: ER17-1363-000.

Applicants: Duke Energy Carolinas, LLC, Duke Energy Progress, LLC.

Description: § 205(d) Rate Filing: DEC-DEP GSU losses Revised PPA Filing to be effective 6/1/2017.

Filed Date: 3/31/17.

Accession Number: 20170331-5296.

Comments Due: 5 p.m. ET 4/21/17.

Docket Numbers: ER17-1364-000.

Applicants: New England Power Pool Participants Committee.

Description: § 205(d) Rate Filing: Apr 2017 Membership Filing to be effective 4/1/2017.

Filed Date: 3/31/17.

Accession Number: 20170331-5299.

Comments Due: 5 p.m. ET 4/21/17.

Docket Numbers: ER17-1365-000.

Applicants: CL Power Sales Eight, L.L.C.

Description: Tariff Cancellation: Notice of Cancellation to be effective 4/1/2017.

Filed Date: 3/31/17.

Accession Number: 20170331-5317.

Comments Due: 5 p.m. ET 4/21/17.

Docket Numbers: ER17-1366-000.

Applicants: PJM Interconnection, L.L.C.

Description: § 205(d) Rate Filing: ISA Service Agreement No. 4661, Queue Position AA2-115 to be effective 3/2/2017.

Filed Date: 3/31/17.

Accession Number: 20170331-5318.

Comments Due: 5 p.m. ET 4/21/17.

Docket Numbers: ER17-1367-000.

Applicants: Public Service Company of New Mexico.

Description: Application of Public Service Company of New Mexico for 2017 Transmission Formula Rate Post-Retirement Benefits Other than Pensions Expense.

Filed Date: 3/31/17.

Accession Number: 20170331-5362.

Comments Due: 5 p.m. ET 4/21/17.

Docket Numbers: ER17-1368-000.

Applicants: Cleco Power LLC.

Description: Monthly System Support Resource Payment for Teche Unit No. 3 of Cleco Power LLC.

Filed Date: 3/31/17.

Accession Number: 20170331-5369.

Comments Due: 5 p.m. ET 4/21/17.

Docket Numbers: ER17-1369-000.

Applicants: Public Service Company of Colorado.

Description: 2016 Post-Retirement Benefits Other than Pensions of Public Service Company of Colorado.

Filed Date: 3/31/17.

Accession Number: 20170331-5400.

Comments Due: 5 p.m. ET 4/21/17.

Docket Numbers: ER17-1370-000.

Applicants: ENGIE Energy Marketing NA, Inc.

Description: § 205(d) Rate Filing: Notice of Succession to be effective 5/31/2017.

Filed Date: 3/31/17.

Accession Number: 20170331-5425.

Comments Due: 5 p.m. ET 4/21/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2017.
Kimberly D. Bose,
Secretary.

[FR Doc. 2017-06842 Filed 4-5-17; 8:45 am]

BILLING CODE 6717-01-P